FEDERAL ELECTION COMMISSION

Sunshine Act Notices

AGENCY: Federal Election Commission.

Previously Announced Date and Time: Tuesday, January 27, 2004. Meeting closed to the public. This meeting was cancelled.

Date and Time: Thursday, February 5, 2004, 2 p.m.

Place: 999 E Street, NW., Washington, DC (ninth floor).

Status: This meeting will be open to the public.

The following item has been added to the agenda:

Final Rules on Extension of the Administrative Fines Program.

FOR FURTHER INFORMATION CONTACT: Robert W. Biersack, Acting Press Officer Telephone: (202) 694-1220.

Mary W. Dove,
Secretary of the Commission.

[FR Doc. 04-2311 Filed 1-30-04; 2:43 pm]

BILLING CODE 6715-01-M